DEPARTMENT OF AGRICULTURE

Office of the Secretary

Notice of the Specialty Crop Committee's Stakeholder Listening Session

AGENCY: Research, Education, and Economics, USDA.

ACTION: Notice of stakeholder listening session.

SUMMARY: In accordance with the Federal Advisory Committee Act, 5 U.S.C. App 2, and the Specialty Crop Competitiveness Act of 2004 (Pub. L. 108-465), the United States Department of Agriculture announces a stakeholder listening session of the Specialty Crop Committee, a subcommittee of the National Agricultural Research, Extension, Education, and Economics Advisory Board.

DATES: January 7, 2016 starting at 2:00 p.m. EST.

ADDRESSES: The Southeast Regional Fruit and Vegetable Conference, Room 105, Savannah International Trade and Convention Center, One International Drive, Savannah, Georgia 31402.

The public may file written comments by January 22, 2016, to: The National Agricultural Research, Extension, Education, and Economics Advisory Board Office, U.S. Department of Agriculture, Room 332-A, Jamie L. Whitten Building, 1400 Independence Avenue SW., Washington, DC 20250-2255 or nareeeab@ars.usda.gov.

FOR FURTHER INFORMATION CONTACT: Michele Esch, Executive Director, National Agricultural Research, Extension, Education, and Economics Advisory Board; telephone: (202) 720-8408; fax: (202) 720-6199; or email: Michele.esch@ars.usda.gov.

SUPPLEMENTARY INFORMATION: The Specialty Crop Committee was established in accordance with the Specialty Crops Competitiveness Act of 2004 under Title III, Section 303 of Public Law 108-465. This Committee is a permanent subcommittee of the National Agricultural Research Extension, Education, and Economics Advisory Board (the Board). The Committee's charge is to study the scope and effectiveness of research, extension, and economics programs affecting the specialty crop industry. The congressional legislation defines “specialty crops” as fruits, vegetables, tree nuts, dried fruits and nursery crops (including floriculture).

In order to carry out its responsibilities effectively, the Committee is holding a stakeholder listening session. The listening session will elicit stakeholder input from industry and state representatives, national organizations and institutions, local producers, and other groups interested in the issues with which the Specialty Crop Committee is charged. This session will be an opportunity to share ideas on the specialty crop industry with members of USDA's Specialty Crop Committee, including: Measures designed to improve the efficiency, productivity, and profitability of specialty crop production in the United States; measures designed to improve competitiveness through research, extension, and economics programs affecting the specialty crop industry; and programs that would: Enhance quality and shelf-life, development of new crop protection tools, preventing foreign invasive pests and diseases, developing new and improved marketing tools, and enhancing food safety, improvement of mechanization of production practices, and enhancing irrigation techniques. Input received will help formulate recommendations from the Specialty Crop Committee to USDA.

Written comments by attendees and other interested stakeholders will be welcomed as additional public input by January 22, 2016. All verbal and written statements will become part of the official public record of the REE Advisory Board Office.

Done at Washington, DC, this 21st day of December 2015.
Catherine Woteki,
Under Secretary, Research, Education, and Economics, Chief Scientist, USDA.

[FR Doc. 2015-33042 Filed 1-6-16; 8:45 am]

BILLING CODE 3410-03-P